NATIONAL AERONAUTICS AND SPACE ADMINISTRATION

[Notice: (19-069)]

NASA Applied Sciences Advisory Committee; Meeting

AGENCY: National Aeronautics and Space Administration.

ACTION: ACTION: Notice of meeting.

SUMMARY: In accordance with the Federal Advisory Committee Act, as amended, the National Aeronautics and Space Administration (NASA) announces a meeting of the Applied Sciences Advisory Committee. This Committee reports to the Director, Earth Science Division, Science Mission Directorate, NASA Headquarters. The meeting will be held for the purpose of soliciting, from the scientific community and other persons, scientific and technical information relevant to program planning.

DATES: Tuesday, November 12, 2019, 11:00 a.m.-2:00 p.m.; and Friday, November 15, 2019, 2:00 p.m.-4:00 p.m., Eastern Time.

FOR FURTHER INFORMATION CONTACT: Ms. KarShelia Henderson, Science Mission Directorate, NASA Headquarters, Washington, DC 20546, (202) 358-2355, fax (202) 358-2779, or khenderson@nasa.gov.

SUPPLEMENTARY INFORMATION: The meeting will be available telephonically and by WebEx. You must use a touch-tone phone to participate in this meeting. Any interested person may dial the USA toll free conference call number 1-888-946-9423, passcode 4935973, to participate in this meeting by telephone on both days. The WebEx link is https://nasaenterprise.webex.com/; the meeting number on November 12 is 908 667 679, password is 2Tn4Svh?, and the meeting number on November 15 is 904 495 351, password is Kq2prmN$.

The agenda for the meeting includes the following topics:

—Earth Science and Applied Sciences Program Updates

—Private Sector and Applications

—Applications Guidebook

—Technical Content Strategy

The agenda will be posted on the Applied Sciences Advisory Committee web page: https://science.nasa.gov/science-committee/subcommittees/nac-earth-science-subcommittee/advisory-groups

It is imperative that the meeting be held on this date to accommodate the scheduling priorities of the key participants.

Patricia Rausch,
Advisory Committee Management Officer, National Aeronautics and Space Administration.

[FR Doc. 2019-22693 Filed 10-16-19; 8:45 am]

BILLING CODE 7510-13-P